DEPARTMENT OF ENERGY

Federal Energy Regulatory Commission

Combined Notice of Filings #1

Take notice that the Commission received the following electric corporate filings:

Docket Numbers: EC20-43-000.

Applicants: Pacific Gas and Electric Company, PG&E Corporation.

Description: Application for Authorization Under Section 203 of the Federal Power Act, et al. of Pacific Gas and Electric Company, et al.

Filed Date: 3/2/20.

Accession Number: 20200302-5374.

Comments Due: 5 p.m. ET 3/23/20.

Take notice that the Commission received the following exempt wholesale generator filings:

Docket Numbers: EG20-88-000.

Applicants: Frontier Windpower II, LLC.

Description: Self-Certification of Exempt Wholesale Generator of Frontier Windpower II, LLC.

Filed Date: 3/3/20.

Accession Number: 20200303-5085.

Comments Due: 5 p.m. ET 3/24/20.

Take notice that the Commission received the following electric rate filings:

Docket Numbers: ER04-835-010.

Applicants: California Independent System Operator Corp.

Description: Supplemental Informational Compliance Filing of the California Independent System Operator Corporation.

Filed Date: 3/2/20.

Accession Number: 20200302-5427.

Comments Due: 5 p.m. ET 3/23/20.

Docket Numbers: ER20-1149-000.

Applicants: Midcontinent Independent System Operator, Inc., ALLETE, Inc.

Description: § 205(d) Rate Filing: 2020-03-03_SA 3433 MP-GRE Construction & Payment Agrmt (Benton County) to be effective 3/4/2020.

Filed Date: 3/3/20.

Accession Number: 20200303-5066.

Comments Due: 5 p.m. ET 3/24/20.

Docket Numbers: ER20-1150-000.

Applicants: The Dayton Power and Light Company, PJM Interconnection, L.L.C.

Description: § 205(d) Rate Filing: Dayton submits revisions to OATT Att. H-15 and Schedules re: Rate Changes to be effective 5/3/2020.

Filed Date: 3/3/20.

Accession Number: 20200303-5080.

Comments Due: 5 p.m. ET 3/24/20.

Docket Numbers: ER20-1151-000.

Applicants: PJM Interconnection, L.L.C.

Description: § 205(d) Rate Filing: Original WMPA Service Agreement No. 5603; Queue No. AD2-065 to be effective 2/6/2020.

Filed Date: 3/3/20.

Accession Number: 20200303-5094.

Comments Due: 5 p.m. ET 3/24/20.

Docket Numbers: ER20-1152-000.

Applicants: Pacific Gas and Electric Company.

Description: § 205(d) Rate Filing: City of Palo Alto Work Performance Agreement (TO SA 292) to be effective 3/4/2020.

Filed Date: 3/3/20.

Accession Number: 20200303-5133.

Comments Due: 5 p.m. ET 3/24/20

Docket Numbers: ER20-1153-000.

Applicants: Public Service Company of Colorado.

Description: § 205(d) Rate Filing: 2020-03-03 OATT_Att N-LGIP-GenRplcmt-Sec 30 to be effective 5/18/2020.

Filed Date: 3/3/20.

Accession Number: 20200303-5156.

Comments Due: 5 p.m. ET 3/24/20.

Docket Numbers: ER20-1154-000.

Applicants: Midcontinent Independent System Operator, Inc., Otter Tail Power Company.

Description: § 205(d) Rate Filing: 2020-03-03_SA 3434 OTP-Dakota Range III FSA (J488) to be effective 3/4/2020.

Filed Date: 3/3/20.

Accession Number: 20200303-5184.

Comments Due: 5 p.m. ET 3/24/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 3, 2020.
Nathaniel J. Davis, Sr.,
Deputy Secretary.

[FR Doc. 2020-04880 Filed 3-9-20; 8:45 am]

BILLING CODE 6717-01-P